FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011261-007.

Title: ACL/Wallenius Wilhelmsen Lines Agreement.

Parties: Atlantic Container Line AB, Wallenius Wilhelmsen Lines AS.

Synopsis: The amendment deletes several ports from its scope, makes a change in withdrawal conditions, and restates the agreement.

Dated: February 15, 2002.
By Order of the Federal Maritime Commission.
Bryant L. VanBrakle,
Secretary.

[FR Doc. 02-4189 Filed 2-20-02; 8:45 am]

BILLING CODE 6730-01-P